ENVIRONMENTAL PROTECTION AGENCY

40 CFR Parts 52, 62, and 70

[EPA-R07-OAR-2017-0470; FRL 9979-10—Region 7]

State of Iowa; Approval and Promulgation of the State Implementation Plan, the 111(d) Plan and the Operating Permits Program

AGENCY: Environmental Protection Agency (EPA).

ACTION: Final rule.

SUMMARY: The Environmental Protection Agency (EPA) is taking final action to approve revisions to the Iowa State Implementation Plan (SIP), the 111(d) plan, and the Operating Permits Program. These revisions update and clarify rules and make minor revisions and corrections. Approval of these revisions will ensure consistency between the state and federally-approved rules, and ensure Federal enforceability of the state's revised air program rules.

DATES: This final rule is effective on July 9, 2018.

ADDRESSES: EPA has established a docket for this action under Docket ID No. EPA-R07-OAR-2017-0470. All documents in the docket are listed on the https://www.regulations.gov website. Although listed in the index, some information is not publicly available, i.e., CBI or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: Heather Hamilton, Environmental Protection Agency, Air Planning and Development Branch, 11201 Renner Boulevard, Lenexa, Kansas 66219 at (913) 551-7039, or by email at hamilton.heather@epa.gov.

SUPPLEMENTARY INFORMATION: Throughout this document “we,” “us,” and “our” refer to EPA. This section provides additional information by addressing the following:

I. Background

II. What is being addressed in this document?

III. Have the requirements for approval of the SIP, 111(d) Plan, and Operating Permit Plan Revisions been met?

IV. EPA's Response to Comments

V. What action is EPA taking?

VI. Incorporation by Reference

VII. Statutory and Executive Order Reviews

I. Background

On September 15, 2017, EPA proposed to approve revisions to the Iowa State Implementation Plan (SIP), the 111(d) plan, and the Operating Permits Program. See 82 FR 43315. In conjunction with the September 15, 2017 notice of proposed rulemaking (NPR), EPA issued a direct final rule (DFR) approving revisions to the Iowa SIP, the 111(d) plan, and the Operating Permits Program. See 82 FR 43303. In the DFR, EPA stated that if adverse comments were submitted to EPA by October 16, 2017, the action would be withdrawn and not take effect.

EPA received three comments prior to the close of the comment period; one in support of the rule revisions and two of which were adverse. EPA withdrew the DFR on November 14, 2017. See 82 FR 52667. This action is a final rule based on the NPR. A detailed discussion of Iowa's SIP revisions, the 111(d) plan revision, and the Operating Permits Program revisions were provided in the DFR and will not be restated here, except to the extent relevant to our response to the public comment we received.

II. What is being addressed in this document?

EPA is taking final action to approve revisions to the Iowa SIP, the 111(d) plan, and the Operating Permits Program. These revisions update and clarify rules and make minor revisions and corrections. Approval of these revisions will ensure consistency between the state and federally-approved rules, and ensure Federal enforceability of the state's revised air program rules. Chapters with revisions are as follows:

• Chapter 20—Scope of Title-Definitions

• Chapter 21—Compliance

• Chapter 22—Controlling Pollution *

• Chapter 23—Emission Standards for Contaminants

• Chapter 25—Measurement of Emissions

• Chapter 26—Prevention of Emergency Pollution Episodes

• Chapter 27—Certificate of Acceptance

• Chapter 28—Ambient Air Quality Standards

• Chapter 31—Nonattainment Areas

• Chapter 33—Special Regulations and Construction Permit Requirements for Major Stationary Sources—Prevention of Significant Deterioration (PSD) of Air Quality

* Title V Operating Permit Program rules are included in chapter 22 starting at 22.100.

III. Have the requirements for approval of the SIP, 111(d) Plan, and Operating Permit Plan Revisions been met?

The state submittal has met the public notice requirements for SIP submissions in accordance with 40 CFR 51.102. The submittal also satisfied the completeness criteria of 40 CFR part 51, appendix V. In addition, as explained above and in more detail in the TSD which is part of this docket, these revisions meet the substantive SIP requirements of the CAA, including section 110 and implementing regulations. These revisions are also consistent with applicable EPA requirements of the 111(d) plan submission and Title V of the CAA and 40 CFR part 70.

IV. EPA's Response to Comments

The public comment period for EPA's proposed rule opened September 15, 2017, the date of its publication in the Federal Register, and closed on October 16, 2017. During this period, EPA received three comments; one in favor of the rule revision, and two with adverse comments.

Below are adverse comments from the first commenter with EPA's responses:

First commenter, comment 1: The commenter stated that EPA must disapprove 567 Iowa Administrative Code (IAC) 22.1(2), “Exemptions” as applied to construction permits for existing stationary sources, because existing sources already subject to PSD cannot use a plantwide applicability limit (PAL) to avoid PSD requirements. The commenter also stated that EPA must disapprove this provision because it does not ensure that the minor sources exemptions will not cause or contribute to a violation of a NAAQS or increment.

EPA's response: Under 40 CFR 52.21(aa)(1), existing major stationary sources may be issued an “actuals PAL”. As stated in the New Source Review (NSR) Reform Final Rule (67 FR 80185), sources subject to an actuals PAL that maintain their emissions below a plantwide actual emissions cap (that is, an actuals PAL), may use the PAL process instead of the major NSR permitting process when modifications are made to the facility or individual emissions units to determine PSD applicability. Iowa's PAL program was approved by EPA on May 4, 2007. See 72 FR 27056.

While compliance with an actuals PAL may allow a source to avoid PSD applicability, it does not necessarily exempt a source from compliance with a state's minor NSR program. Therefore, a source with an actuals PAL in Iowa may still need obtain a permit when there is a physical change or change in method of operation under Iowa's minor NSR program in 567 IAC 22.1. The exclusion of PAL sources from the list of sources that cannot use the exemptions from 567 IAC 22.1 simply allows those PAL sources to use the same exemptions as other sources in order to avoid the permitting requirements of 567 IAC 22.1(1).

Furthermore, allowing PAL sources to use the exemptions in 567 IAC 22.1(2) does not require EPA to disapprove the SIP. The state performs technical reviews of construction permit exemptions to insure the minor sources will not cause or contribute to a violation of a NAAQS or increment. For example, on October 25, 2013, EPA approved a construction permit exemption for certain temporary diesel engines used in periodic testing and maintenance of natural gas pipelines in 567 IAC 22.1(2) paragraph “oo”. See 78 FR 63887. As demonstrated in the docket for that action, Iowa conducted an air quality assessment and determined that the exemption was appropriate and included conditions in the exemption that insured that the engine emissions would not exceed the emission limits allowed under the small unit exemption in 567 IAC 22.1(2), paragraph “w”. As an additional safeguard, 567 IAC 22.1(2) specifies that permitting exemptions do not relieve the owner or operator of any source from any obligations to comply with any other applicable requirements, including Title V requirements and PSD requirements.

First commenter, comment 2: The commenter stated that EPA must disapprove 567 IAC 22.1(3) (as applicable to construction permits for animal feeding operations) because it allows animals feeding operations to be exempt from air pollution permitting, and because it only requires animal feeding operations to obtain a permit under Iowa's chapter 65 regulations that are not approved into the SIP. Finally, the commenter stated that 567 IAC 22.1(3) illegally allows a source category to be exempt from air pollution regulation.

EPA's response: The modification to 567 IAC 22.1(3) clarifies that a new or modified anaerobic lagoon for an animal feeding operation shall apply for a construction permit as provided in 567 IAC chapter 65. It does not exempt animal feeding operations from air pollution permitting, and solely applies to anaerobic lagoons at animal feeding operations.

On October 9, 2002, EPA approved modifications to 567 IAC 22.1(3), 567 IAC 22.1(3), paragraph “c”, subparagraph (3), and 567 IAC 22.3(2) to include new air construction permitting requirements for anaerobic lagoons at animal feeding operations. See 67 FR 62889. EPA notes that 567 IAC 22.1(3), paragraph “c”, which is enforceable by the state and EPA as it is approved as part of Iowa's SIP, contains air construction permit requirements that specifically apply to persons constructing anaerobic lagoons at animal feeding operations. 567 IAC 22.3(2), which is also enforceable by the state and EPA as it is approved as part of Iowa's SIP, also contains air construction permitting requirements for anaerobic lagoons at animal feeding operations. In addition, the EPA notes that anaerobic lagoons for animal feeding operations are not exempt from air construction permitting requirements under 567 IAC 22.1(2), which contains exemptions from air construction permitting requirements for certain sources.

Concerning the comment that Iowa's Chapter 65 regulations are not approved as part of the SIP, the EPA notes that in its October 9, 2002 approval of the modifications to 567 IAC 22.1(3), 567 IAC 22.1(3), paragraph “c”, subparagraph (3), and 567 IAC 22.3(2), the EPA stated that chapter 65 requirements have not been requested by Iowa to be approved into the SIP because chapter 65 includes requirements (for example, odor controls) not pertaining to the requirements of section 110 of the CAA.

First commenter, comment 3: The commenter stated that EPA should make clear that the current New Source Performance Standards (NSPS) apply to sources in Iowa, even if the NSPS was subject to a legal challenge and even if Iowa has not adopted the current NSPS.

EPA's response: While the state included revisions to its adoption of the NSPS in the submittal dated April 13, 2017, the state specifically requested that EPA not act on the revisions, and therefore this comment is outside of the scope of this action. The EPA notes that the NSPS is applicable to sources in Iowa regardless of whether Iowa has adopted the NSPS. Iowa adopts the NSPS in order to obtain concurrent enforcement authority of the NSPS with the EPA.

First commenter, comment 4: The commenter stated that 567 IAC 25.1(9), “Methods and Procedures” should be disapproved as the rule claims that the Department can authorize the use of alternative methodologies for testing and monitoring. The commenter further stated that the state does not have authority to alter stack test and monitoring methodologies for NSPS and NESHAP standards.

EPA's response: 567 IAC 25.1, paragraph “(a)” was revised in order for the state rules to be consistent with the most current Federal rules. In addition to provisions within each NSPS and NESHAP that preserve EPA's authority to approve certain alternative methodologies for testing and monitoring, EPA also retains this authority in accordance with sections 111(h)(3) and 112(e)(3) of the CAA, 40 CFR 60.8(b)(2) and (3), 61.14, and part 63, subpart E.

First commenter, comment 5: The commenter stated that EPA must disapprove 567 IAC 26.2(2) because it is missing PM2.5 thresholds for air pollution alerts and air pollution warnings.

EPA's response: Iowa revised 567 IAC 26.2 in order to be consistent with 40 CFR part 51, appendix L, which addresses example regulations for prevention of air pollution emergency episodes that would cause imminent and substantial endangerment to the health of persons. States are required under 40 CFR part 51, subpart H, to develop emergency contingency plans that are classified as Priority 1 regions where ambient concentrations of a pollutant exceed specific thresholds. In accordance with 40 CFR 51.151, each plan for a Priority 1 region must include a contingency plan that provides for taking action necessary to prevent ambient pollutant concentrations at any such area in the region from reaching a significant harm threshold.

To date, EPA has not promulgated a significant harm threshold for Priority 1 areas for PM2.5. However, EPA has recommended PM2.5 priority levels through guidance,¹ and has recommended that states develop emergency episode contingency plans for any area that has monitored and recorded 24-hour PM2.5 levels greater than 140.4 µm/m³ since 2006. If a state has monitored and recorded PM2.5 levels greater than 140.4 µm/m³, the EPA also recommends that the state develop emergency action levels and a significant harm level for PM2.5 in accordance with EPA guidance and consistent with the requirements of 40 CFR 51.150 through 51.153.

¹ See EPA Memorandum entitled “Guidance on Sip Elements Required Under Sections 110(a)(1) and (2) for the 2006 24-Hour Fine Particle (PM2.5) National Ambient Air Quality Standards (NAAQS), William T. Harnett, September 25, 2009.

Because Iowa has not monitored and recorded 24-hour PM2.5 levels greater than 140.4 µm/m³ since 2006, Iowa is not required to develop an emergency action plan nor establish emergency action levels and a significant harm level for PM2.5.

First commenter, comment 6: The commenter stated that EPA must disapprove paragraph 27.2(4)“c” as this paragraph implies that local air agencies have authority to grant variances for emission limits and other applicable requirements. In addition, the commenter stated that Iowa Code 455B-133, 134, and 143 must be disapproved due to director's variance provisions.

EPA's response: The EPA has interpreted this as a comment on EPA's proposed approval of 567 IAC 27.3(4), paragraph “c”. The current local air pollution control agencies in Iowa do not have federally approved variance procedures. See 40 CFR 52.820(c). As such, EPA's approval of 567 IAC 27.3(4), paragraph “c” does not create a federally-approved variance program for the local air pollution control agency. In addition, Iowa Code 455B-133, 134, and 143 are not a part of Iowa's SIP.

First commenter, comment 7: The commenter stated that Iowa removed the title “Significant Impact Levels (SILs)” of the table in 567 IAC 33.3(20) but left the SILs in place. The commenter stated that removing the title does not fix the problem of SILs not being authorized by the Clean Air Act. The commenter stated that therefore the last sentence of 567 IAC 33.3(20) and the table must be disapproved and expressed further reasons to disapprove the SILs.

EPA's response: As acknowledged by the commenter, the only change to the table in 567 IAC 33.3(20) was the removal of the table's title. The title was removed by the state to be consistent with the table in 40 CFR 51.165(b)(2), which also does not have a title. Because the state only removed the title of the table, and did not otherwise revise the text or table of 567 IAC 33.3(20), the comments concerning the last sentence of the 567 IAC 33.3(2) and the table are outside the scope of this action. In addition, the referenced sentence and table are consistent with the text and table of 40 CFR 51.165(b)(2).

First commenter, comment 8: The commenter stated that EPA must disapprove 567 IAC 33.3(22) in its entirety as the Clean Air Act does not allow for the rescission of PSD permits.

EPA's response: 40 CFR part 52 implements the PSD provisions of the CAA. PSD permits may be rescinded in accordance with 40 CFR 52.21(w).

Second commenter: A second commenter stated that EPA cannot rescind 567 IAC 21.1(4) unless the Clean Air Interstate Rule (CAIR) is removed from the Iowa SIP.

EPA's response: 567 IAC 21.1(4) specifies emissions inventory requirements for Iowa's implementation of CAIR. Iowa's CAIR regulations are found in 567 IAC chapter 34 and remain a part of the approved SIP. The Federal CAIR regulations have been phased out and replaced by the Cross-State Air Pollution Rule (CSAPR). (See 76 FR 48208). Because the emissions inventory requirements of 567 IAC 21.1(4) were implemented in Iowa in order to comply with CAIR and are not relied upon for any other provision of Iowa's SIP, and because CAIR has been replaced by the CSAPR, EPA is approving Iowa's request to remove 567 IAC 21.1(4) from Iowa's SIP.

V. What action is EPA taking?

EPA is taking final action to approve revisions to the Iowa State Implementation Plan, the 111(d) plan, and the Operating Permits Program. These revisions update and clarify rules and makes minor revisions and corrections. Approval of these revisions will ensure consistency between the state and federally-approved rules, and ensure Federal enforceability of the state's revised air program rules.

VI. Incorporation by Reference

In this rule, EPA is finalizing regulatory text that includes incorporation by reference. In accordance with requirements of 1 CFR 51.5, EPA is finalizing the incorporation by reference of the Iowa Regulations described in the final amendments to 40 CFR part 52 set forth below. EPA has made, and will continue to make, these materials generally available through www.regulations.gov and at the EPA Region 7 Office (please contact the person identified in the For Further Information Contact section of this preamble for more information).

Therefore, these materials have been approved by EPA for inclusion in the State implementation plan, have been incorporated by reference by EPA into that plan, are fully federally enforceable under sections 110 and 113 of the CAA as of the effective date of the final rulemaking of EPA's approval, and will be incorporated by reference in the next update to the SIP compilation.²

² 62 FR 27968 (May 22, 1997).

VII. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 7, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects

40 CFR Part 52

Environmental protection, Air pollution control, Incorporation by reference, Intergovernmental relations, Lead, Nitrogen dioxide, Ozone, Particulate matter, Reporting and recordkeeping requirements, Sulfur oxides, Volatile organic compounds.

40 CFR Part 62

Environmental protection, Air pollution control, Administrative practice and procedure, Reporting and recordkeeping requirements.

40 CFR Part 70

Environmental protection, Administrative practice and procedure, Air pollution control, Intergovernmental relations, Operating permits, Reporting and recordkeeping requirements.

Dated: May 25, 2018.
James B. Gulliford,
Regional Administrator, Region 7.

For the reasons stated in the preamble, EPA amends 40 CFR parts 52, 62, and 70 as set forth below:

PART 52—APPROVAL AND PROMULGATION OF IMPLEMENTATION PLANS

1. The authority citation for part 52 continues to read as follows:

Authority: 42 U.S.C. 7401 et seq.

Subpart Q—Iowa

2. Section 52.820(c) is amended by revising the heading for chapter 20 and the entries for “567-20.1”, “567-20.2”, “567-21.1”, “567-22.1”, “567-23.3”, “567-25.1”, “567-26.2”, “567-27.1”, “567-27.3”, “567-28.1”, “567-31.2”, “567-33.1”, and “567-33.3” to read as follows:

§ 52.820 Identification of plan.

* * * * *

(c) * * *

EPA-Approved Iowa Regulations
Iowa citation | Title | State effective date | EPA approval date | Explanation
Iowa Department of Natural Resources Environmental Protection Commission [567]
Chapter 20—Scope of Title—Definitions
567-20.1 | Scope of Title-Definitions | 3/22/17 | 6/8/2018, [Insert Federal Register citation] | This rule is a non-substantive description of the Chapters contained in the Iowa rules. EPA has not approved all the Chapters to which this rule refers.
567-20.2 | Definitions | 3/22/17 | 6/8/2018, [Insert Federal Register citation] | The definitions for “anaerobic lagoon,” “odor,” “odorous substance,” “odorous substance source” are not SIP approved.
* * * * * * *
Chapter 21—Compliance
567-21.1 | Compliance Schedule | 3/22/17 | 6/8/2018, [Insert Federal Register citation] |
* * * * * * *
Chapter 22—Controlling Pollution
567-22.1 | Stationary Sources | 3/22/17 | 6/8/2018, [Insert Federal Register citation] | In 22.1(3) the following sentence regarding electronic submission is not SIP approved. The sentence is: “Alternatively, the owner or operator may apply for a construction permit for a new or modified stationary source through the electronic submittal format specified by the department.”
* * * * * * *
Chapter 23—Emission Standards for Contaminants
* * * * * * *
567-23.3 | Specific Contaminants | 3/22/17 | 6/8/2018, [Insert Federal Register citation] | 567 IAC 23.3(3) “(d)” is not SIP approved.
* * * * * * *
Chapter 25—Measurement of Emissions
567-25.1 | Testing and Sampling of New and Existing Equipment | 3/22/17 | 6/8/2018, [Insert Federal Register citation] |
Chapter 26—Prevention of Air Pollution Emergency Episodes
* * * * * * *
567-26.2 | Episode Criteria | 3/22/17 | 6/8/2018, [Insert Federal Register citation] |
* * * * * * *
Chapter 27—Certificate of Acceptance
567-27.1 | General | 3/22/17 | 6/8/2018, [Insert Federal Register citation] |
* * * * * * *
567-27.3 | Ordinance or Regulations | 3/22/17 | 6/8/2018, [Insert Federal Register citation] |
* * * * * * *
Chapter 28—Ambient Air Quality Standards
567-28.1 | Statewide standards | 3/22/17 | 6/8/2018, [Insert Federal Register citation] |
* * * * * * *
Chapter 31—Nonattainment Areas
* * * * * * *
567-31.2 | Rescinded | 3/22/17 | 6/8/2018, [Insert Federal Register citation] | Rescinded and reserved
* * * * * * *
Chapter 33—Special Regulations and Construction Permit Requirements for Major Stationary Sources—Prevention of Significant Deterioration (PSD) of Air Quality
567-33.1 | Purpose | 3/22/17 | 6/8/2018, [Insert Federal Register citation] |
567-33.3 | Special Construction Permit Requirements for Major Stationary Sources in Areas Designated Attainment or Unclassified (PSD) | 3/22/17 | 6/8/2018, [Insert Federal Register citation] | Provisions of the 2010 PM2.5 PSD—Increments, SILs and SMCs rule (published October 20, 2010) relating to SILs and SMCs that were affected by the January 22, 2013, U.S. Court of Appeals decision are not SIP approved. Iowa's rule incorporating EPA's 2007 revision of the definition of “chemical processing plants” (the “Ethanol Rule,” (published May 1, 2007) or EPA's 2008 “fugitive emissions rule,” (published December 19, 2008) are not SIP-approved.
* * * * * * *

* * * * *

PART 62—APPROVAL AND PROMULGATION OF STATE PLANS FOR DESIGNATED FACILITIES AND POLLUTANTS

3. The authority citation for part 62 continues to read as follows:

Authority: 42 U.S.C. 7401 et seq.

Subpart Q—Iowa

4. Amend § 62.3913 by revising paragraph (d) and adding paragraph (e) to read as follows:

§ 62.3913 Identification of plan.

* * * * *

(d) Amended plan, submitted September 19, 2001. Clarifying revisions to the plan with regard to design capacity reports for control of air emissions from municipal solid waste landfills submitted by the Iowa Department of Natural Resources on September 19, 2001. The amended plan was effective February 11, 2002.

(e) Amended plan, submitted April 13, 2017. Grammatical revision to the plan for the control of air emissions from municipal solid waste landfills submitted by the Iowa Department of Natural Resources, on April 13, 2017. The state effective date of the revision was March 22, 2017. The effective date of the amended plan is August 7, 2018.

PART 70—STATE OPERATING PERMIT PROGRAMS

5. The authority citation for part 70 continues to read as follows:

Authority: 42 U.S.C. 7401, et seq.

6. Amend appendix A to part 70 by adding paragraph (r) under the heading “Iowa” to read as follows:

Appendix A to Part 70—Approval Status of State and Local Operating Permits Programs

* * * * *

Iowa

* * * * *

(r) The Iowa Department of Natural Resources submitted for program approval revisions to rules 567-22.100, 567-22.103, 567-22.105, and 567-22.108. The state effective date was March 22, 2017. This revision is effective August 7, 2018.

* * * * *

[FR Doc. 2018-12166 Filed 6-7-18; 8:45 am]

BILLING CODE 6560-50-P